NUCLEAR REGULATORY COMMISSION

[Docket No. 70-7005; NRC-2024-0164]

Waste Control Specialists LLC; Environmental Assessment and Finding of No Significant Impact

AGENCY: Nuclear Regulatory Commission.

ACTION: Notice; issuance.

SUMMARY: The U.S. Nuclear Regulatory Commission (NRC) is issuing an environmental assessment (EA) and finding of no significant impact (FONSI) in support of the NRC's consideration of a request from Waste Control Specialists LLC (WCS) to continue to possess certain transuranic waste, which originated from the Los Alamos National Laboratory (LANL), without an NRC license under the terms of a 2023 Order. The 2023 Order exempted WCS from the NRC's regulations concerning special nuclear material (SNM). The current action is in response to a request by WCS dated May 24, 2024, to extend the possession time of certain waste at specific locations at the facility in Andrews County, Texas (WCS Site) until December 31, 2026.

DATES: October 29, 2024.

ADDRESSES: Please refer to Docket ID NRC-2024-0164 when contacting the NRC about the availability of information regarding this document. You may access publicly available information related to this document using any of the following methods:

• Federal Rulemaking website: Go to https://www.regulations.gov and search for Docket ID NRC-2024-0164. Address questions about Docket IDs in Regulations.gov to Stacy Schumann; telephone: 301-415-0624; email: Stacy.Schumann@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. For the convenience of the reader, instructions about obtaining materials referenced in this document are provided in the “Availability of Documents” section.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Harry Felsher, Office of Nuclear Material Safety and Safeguards; U.S. Nuclear Regulatory Commission, Washington, DC 20555-0001; telephone: 301-415-6559; email: Harry.Felsher@nrc.gov.

SUPPLEMENTARY INFORMATION:

I. Discussion

The NRC is considering modifying a previously issued order condition that would allow Waste Control Specialists LLC (WCS) to continue possessing certain transuranic waste, which originated from the Los Alamos National Laboratory (LANL), without an NRC license for another two years at its Andrews County, Texas site. WCS possesses the transuranic waste at issue under the terms of the 2023 Order. Based on the results of the EA that follows, the NRC is issuing a FONSI and, therefore, does not need to prepare an environmental impact statement.

WCS operates a facility in Andrews County, Texas (WCS Site) that is licensed to process, store, and perform certain operations with certain types of radioactive material contained in low-level waste (LLW) and mixed waste. The WCS Site is also licensed to dispose of certain radioactive, hazardous, and toxic waste. Under an agreement authorized by the Atomic Energy Act of 1954, as amended, a State can assume regulatory authority over radioactive material. In 1963, Texas entered into such an agreement and assumed regulatory authority over source material, byproduct material, and SNM under critical mass. The WCS Site is licensed by the Texas Commission on Environmental Quality (TCEQ) for possession, treatment/operations, and storage of radioactive waste and disposal of LLW under Radioactive Materials License (RML) R04100.

Section 70.3 of title 10 of the Code of Federal Regulations (10 CFR) requires persons who own, acquire, deliver, receive, possess, use, or transfer SNM to obtain a license pursuant to the requirements of 10 CFR part 70. The licensing requirements in 10 CFR part 70 apply to persons in Agreement States possessing equal to or greater than critical mass quantities. However, pursuant to 10 CFR 70.17(a), “the Commission may . . . grant such exemptions from the requirements of the regulations in this part as it determines are authorized by law and will not endanger life or property or the common defense and security and are otherwise in the public interest.”

On September 25, 2000, WCS first requested an exemption from the licensing requirements in 10 CFR part 70. On November 21, 2001, the NRC issued an order to WCS (2001 Order) granting an exemption from certain NRC regulations and permitting WCS, under specified conditions, to possess waste containing SNM in greater quantities than specified in 10 CFR part 150, at the WCS Storage and Treatment Facility without obtaining an NRC license pursuant to 10 CFR part 70. The 2001 Order was published in the Federal Register on November 15, 2001. The NRC issued superseding Orders to WCS in 2004 (i.e., modified list of reagents), 2009 (i.e., modified sampling requirements), 2014 (i.e., modified to include storage of LANL Waste), and 2023 (i.e. modified to allow certain movement of LANL Waste, to allow certain preparation for shipment operations with LANL Waste, to update storage of LANL Waste) that modified the conditions in the 2001 Order. In addition, WCS' authorization to possess the LANL waste was previously extended in two-year increments in 2016, 2018, 2020, and 2022.

On February 14, 2014, a radiation release event occurred at the U.S. Department of Energy (DOE) Waste Isolation Pilot Plant (WIPP) Facility (WIPP Incident). In response, the DOE suspended operations at the WIPP Facility. In April 2014, WCS began receiving some specific waste from DOE that both WCS and DOE understood to meet both the U.S. Department of Transportation (DOT) shipping requirements and the conditions in the 2009 Order. WCS began storing that waste at the Treatment, Storage, and Disposal Facility (TSDF) (previously known as Storage and Treatment Facility) on the WCS Site, identified as the Storage and Processing Facility in RML R04100, which is the WCS TCEQ-issued license. The waste was DOE transuranic waste that originated at LANL that was destined to be disposed of at the DOE WIPP Facility (i.e., “LANL Waste”). In June 2014, WCS received information from DOE that some of the LANL Waste being temporarily stored at the TSDF may be of concern as the waste is similar to the waste that caused an incident at WIPP. In response, WCS moved some of the LANL Waste from the TSDF to the WCS' Federal Waste Facility (FWF) Disposal Cell for temporary storage.

By letter dated June 30, 2022, WCS requested a superseding NRC order to: (1) move the DOE LANL Waste from the FWF Disposal Cell to the TSDF Bin Storage Area-1 (BSA-1) Enclosure, (2) prepare the LANL Waste in the TSDF BSA-1 Enclosure for shipment, and (3) temporarily store the LANL Waste in the TSDF BSA-1 Enclosure until the DOE ships the LANL Waste off the WCS Site to a DOE determined location. By letter dated May 22, 2023, the NRC approved the WCS request and issued the superseding 2023 Order.

By letter dated May 24, 2024, WCS requested that the effectiveness of its exemption from NRC requirements in 10 CFR part 70 be extended with the modification of Condition 9.B.4 of the 2023 Order to extend the timeframe for temporarily allowing possession of the LANL Waste at the WCS Site to “until December 31, 2026.” That proposal is the subject of this EA.

II. Environmental Assessment

Description of the Proposed Action

The proposed action is to modify the 2023 Order Condition 9.B.4 to allow WCS to continue to possess the LANL Waste at specific locations at the WCS Site until December 31, 2026, without an NRC license.

Need for the Proposed Action

WCS made the request to continue to possess the LANL Waste while the DOE-led Interagency Project Team (including WCS, DOE, U.S. Environmental Protection Agency, NRC, the State of Texas, and the State of New Mexico) works to recommend a path forward for disposition of the LANL Waste. Also, while the DOE WIPP Facility has resumed operations, some of the LANL Waste at the WCS Site cannot be shipped off the site at this time because it does not meet DOT shipping requirements.

The purpose of this EA is to assess the potential environmental impacts of the WCS request to modify the 2023 Order Condition 9.B.4 to allow WCS to possess the LANL Waste at specific locations at the WCS Site until December 31, 2026, under the other 2023 Order Conditions. This EA does not approve or deny the requested action.

Environmental Impacts of the Proposed Action

The NRC does not expect changes in radiation hazards to workers or to the environment. WCS will continue to be required to ensure that the LANL Waste on the WCS Site is possessed safely and securely. WCS will continue to be required to notify the NRC of any events as appropriate, as set out in the 2023 Order. No changes to its handling or associated hazards would occur as a result of granting the requested change. Other environmental impacts would be the same as evaluated in the EA that supported the 2023 Order, as applicable to the activities associated with the continued safe possession of the LANL Waste.

Environmental Impacts of the Alternatives to the Proposed Action

As an alternative to the proposed action, the NRC staff could deny the WCS request and, therefore, not issue a modification to the Order Condition 9.B.4 that would authorize continued possession of the LANL Waste at the WCS Site after December 31, 2024 (i.e., the “no action” alternative).

Upon expiration of the timeframe in the 2023 Order Condition 9.B.4, WCS would still be required to maintain the material safely. In addition, the NRC authorization of any change to the current possession of the LANL Waste at the WCS Site would still be required. As a result, under this alternative, there would be no environmental impacts different from the proposed action, although WCS would be expected to secure a license or other regulatory authorization for the possession of LANL Waste or potentially be in violation of 10 CFR part 70 upon the expiration of the term in the 2023 Order Condition 9.B.4. For the reasons noted in this notice, removing the material from the site prior to the expiration of the current term is not part of the no-action alternative.

Thus, the “no action” alternative would not result in changes to the environmental impacts evaluated in the NRC's prior EAs that supported the 2023 Order or the previous NRC orders. Those prior EAs concluded that there would be no significant radiological or non-radiological environmental impacts associated with the possession of LANL Waste at the WCS Site, consistent with the conditions in those NRC orders.

Agencies and Persons Consulted

On October 1, 2024, the staff provided a copy of the draft EA to the TCEQ for its review and comment. The TCEQ provided its comments on October 1, 2024. The NRC staff updated the EA in response to the TCEQ comments, as appropriate.

The proposed action does not involve the development or disturbance of additional land. Hence, the NRC has determined that the proposed action will not affect listed endangered or threatened species or their critical habitat. Therefore, no further consultation is required under Section 7 of the Endangered Species Act. Likewise, the NRC staff has determined that the proposed action does not have the potential to cause effects on historical properties even if present and no ground disturbing activities are associated with the proposed action. Therefore, no consultation is required under Section 106 of the National Historic Preservation Act.

III. Finding of No Significant Impact

The NRC has reviewed the WCS May 24, 2024, request to supplement the 2023 Order to extend the possession time of the LANL Waste at specific locations at the WCS Site. The NRC has found that effluent releases and potential radiological doses to the public are not anticipated to change as a result of this action and that occupational exposures are expected to remain within regulatory limits and as low as reasonably achievable. On the basis of this EA, the NRC concludes that the proposed action will not have a significant effect on the quality of the human environment.

Accordingly, the NRC has determined not to prepare an environmental impact statement for the proposed action.

IV. Availability of Documents

The documents identified in the following table are available to interested persons through one or more of the following methods, as indicated.

Document description | Adams accession No. / Federal Register citation
WCS Request to Extend Possession Timeframe of LANL Waste until December 31, 2026, dated May 24, 2024 | ML24149A063
Environmental Assessment and Finding of No Significant Impact for 2023 NRC Order, dated May 15, 2023 | 88 FR 31829
2023 NRC Order, dated May 22, 2023 | 88 FR 34900
Environmental Assessment and Finding of No Significant Impact for 2020 NRC Letter, dated May 24, 2022 | 87 FR 32198
NRC Letter Approving Extending Possession Timeframe, dated June 8, 2022 | ML22094A131
Environmental Assessment and Finding of No Significant Impact for 2020 NRC Letter, dated November 24, 2020 | 85 FR 77268
NRC Letter Approving Extending Possession Timeframe, dated December 7, 2020 | ML20252A182
Environmental Assessment and Finding of No Significant Impact for 2018 NRC Letter, dated December 12, 2018 | 83 FR 64902
NRC Letter Approving Extending Possession Timeframe, dated December 19, 2018 | ML18269A318
NRC Letter Approving Extending Possession Timeframe, dated September 23, 2016 | ML16097A265
Environmental Assessment and Finding of No Significant Impact for 2014 NRC Order, dated October 30, 2014 | 79 FR 65999
2014 NRC Order, dated December 3, 2014 | 79 FR 73647
Environmental Assessment and Finding of No Significant Impact for 2009 NRC Order, dated October 7, 2009 | 74 FR 52981
2009 NRC Order, dated October 20, 2009 | 74 FR 55071
Environmental Assessment and Finding of No Significant Impact for 2004 NRC Order, dated October 14, 2004 | 69 FR 61697
2004 NRC Order, dated November 5, 2004 | 69 FR 65468
Environmental Assessment and Finding of No Significant Impact for 2001 NRC Order, dated October 18, 2001 | 66 FR 56358
2001 NRC Order, dated October 30, 2001 | 66 FR 57489
2000 WCS Request for Initial Order, dated September 25, 2000 | ML003759584

Dated: October 24, 2024.
For the Nuclear Regulatory Commission.
Jane Marshall,
Director, Division of Decommissioning, Uranium Recovery, and Waste Programs, Office of Nuclear Material Safety and Safeguards.

[FR Doc. 2024-25080 Filed 10-28-24; 8:45 am]

BILLING CODE 7590-01-P